DEPARTMENT OF ENERGY

Federal Energy Regulatory Commission

[Docket No. ER02-924-002, et al.]

Michigan Electric Transmission Company, LLC, et al.; Electric Rate and Corporate Regulation Filings

September 3, 2002.

The following filings have been made with the Commission. The filings are listed in ascending order within each docket classification.

1. Michigan Electric Transmission Company, LLC

[Docket No. ER02-924-002]

Take notice that on August 27, 2002, Michigan Electric Transmission Company, LLC, the successor to Michigan Electric Transmission Company, submitted the Refund Report required by the Federal Energy Regulatory Commission's (Commission) July 18, 2002 letter order in this proceeding.

Copies of this filing were served on all parties included on the official service list established in this proceeding.

Comment Date: September 17, 2002.

2. Utility Contract Funding, L.L.C.

[Docket No. ER02-2102-001]

Take notice that on August 27, 2002, Utility Contract Funding, L.L.C. submitted a revised tariff rate schedule pursuant to section 205 of the Federal Act, 16 U.S.C. 824d, and Rule 35.12 of the Commission's regulations to reflect the change in its name from Cedar Brakes III, L.L.C.

Comment Date: September 17, 2002.

3. Orion New York GP II, Inc.

[Docket No. ER02-2435-001]

Take notice that on August 28, 2002, Orion New York GP II, Inc. (OPNY) tendered for filing with the Federal Energy Regulatory Commission (Commission) pursuant to Rule 205 of the Commission's Rules of Practice and Procedure, 18 CFR 385.205, an amended FERC Electric Rate Schedule No. 1 (to comply with the requirements of Order No. 614) authorizing OPNY to make sales at market-based rates. OPNY has requested this rate schedule become effective on October 7, 2002.

OPNY intends to sell electric power at wholesale. In transactions where OPNY sells electric energy, it proposes to make such sales on rates, terms, and conditions to be mutually agreed to with the purchasing party. OPNY's Rate Schedule provides for the sale of energy and capacity at agreed prices.

Comment Date: September 18, 2002.

4. PacifiCorp

[Docket No. ER02-2506-000]

Take notice that on August 28, 2002, PacifiCorp tendered for filing with the Federal Energy Regulatory Commission (Commission) in accordance with Part 35 of the Commission's Rules and Regulations (18 CFR Part 35), a Notice of Cancellation of FERC Electric Tariff Fourth Revised Volume No. 3, Service Agreement 94 between PacifiCorp and LG&E Energy.

Copies of this filing were supplied to LG&E Energy and the Public Utility Commission of Oregon.

Comment Date: September 18, 2002.

5. American Electric Power

[Docket No. ER02-2507-000]

Take notice that on August 28, 2002, American Electric Power Service Corporation tendered for filing with the Federal Energy Regulatory Commission (Commission) a Facilities, Operation and Maintenance Agreement (Facility Agreement) dated August 1, 2002, between Columbus Southern Power Company (d/b/a AEP), Consolidated Electric Cooperative, Inc. (CEC) and Buckeye Power, Inc. (Buckeye).

The Facility Agreement provides for the establishment of a new delivery point, pursuant to the provisions of the Power Delivery Agreement between Columbus Southern Power, Buckeye, The Cincinnati Gas & Electric Company, The Dayton Power and Light Company, Monongahela Power Company, Ohio Power Company and Toledo Edison Company, dated January 1, 1968. AEP requests an effective date of October 1, 2002 for the Facility Agreement.

AEP states that copies of its filing were served upon CEC, Buckeye and the Public Utilities Commission of Ohio.

Comment Date: September 18, 2002.

6. Kiowa Power Partners, LLC

[Docket No. ER02-2509-000]

Take notice that on August 28, 2002, Kiowa Power Partners, LLC, 1044 North 115th Street, Suite 400, Omaha, Nebraska 68154 (Kiowa), which will own and operate a natural gas-fired electric generating facility to be constructed in Pittsburg County, Oklahoma, submitted for filing with the Federal Energy Regulatory Commission (Commission) its initial Rate Schedule FERC No. 1 which will enable Kiowa to engage in the sale of electric energy and capacity at market-based rates.

Comment Date: September 18, 2002.

7. MidAmerican Energy Company

[Docket No. ER02-2510-000]

Take notice that on August 28, 2002, MidAmerican Energy Company (MidAmerican), 401 Douglas Street, P.O. Box 778, Sioux City Iowa 51102, filed with the Federal Energy Regulatory Commission (Commission) a Firm Transmission Service Agreement and a Non-Firm Transmission Service Agreement between MidAmerican, as transmission provider, and GEN-SYS Energy, as transmission customer, dated August 16, 2002.

MidAmerican requests an effective date of August 16, 2002, for the agreements and seeks a waiver of the Commission's notice requirement. MidAmerican has served a copy of the filing on the Iowa Utilities Board, the Illinois Commerce Commission and the South Dakota Public Utilities Commission.

Comment Date: September 18, 2002.

8. Central Power and Light Company

[Docket No. ER02-2511-000]

Take notice that on August 27, 2002, American Electric Power Service Corporation (AEPSC), as designated agent for Central Power and Light Company (CPL) submitted for filing amendments to the Interconnection Agreement between CPL and Magic Valley Electric Cooperative, Inc. (MVEC) dated July 24, 2002 that recognizes the establishment of additional points of interconnection between the parties at MVEC's Aderhold Substation and CPL's Weslaco Switching Station.

AEPSC seeks effective dates of June 26, 2002 and November 1, 2002 for the interconnections at Aderhold and Weslaco respectively. AEPSC served copies of the filing on MVEC and the Public Utility Commission of Texas.

Comment Date: September 17, 2002.

9. Aquila, Inc.

[Docket No. ER02-2512-000]

Take notice that on August 28, 2002, Aquila, Inc. (Aquila) tendered for filing Service Agreement No. 95 under Aquila's FERC Electric Tariff, Third Revised Volume No. 25, a firm point-to-point transmission service agreement between Aquila's WestPlains Energy-Colorado division and Rocky Mountain Generation Cooperative, Inc.

UtiliCorp requests an effective date for the service agreement of August 28, 2002.

Comment Date: September 18, 2002.

10. Aquila, Inc.

[Docket No. ER02-2513-000]

Take notice that on August 28, 2002, Aquila, Inc. (Aquila) tendered for filing with the Federal Energy Regulatory Commission (Commission) Service Agreement No. 94 under Aquila's FERC Electric Tariff, Third Revised Volume No. 25, a short-term non-firm point-to-point transmission service agreement between Aquila's WestPlains Energy-Colorado division and Rocky Mountain Generation Cooperative, Inc.

UtiliCorp requests an effective date for the service agreement of August 28, 2002.

Comment Date: September 18, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-23028 Filed 9-10-02; 8:45 am]

BILLING CODE 6717-01-P